DEPARTMENT OF LABOR

Office of The Secretary

Solicitation for Grant Applications (SGA) 02-04; Combating Child Labor Through Education in Bolivia and Peru; Correction

AGENCY: Bureau of International Labor Affairs, Labor.

ACTION: Notice of correction.

SUMMARY: In the Federal Register, Vol. 67, No. 100, Wednesday, May 23, 2002 the competition was announced and the SGA printed in its entirety. Two of the background materials listed, the Bolivia Country Report and the Peru Country Report, were not available on-line as described in the SGA at the time of publication. These two country reports are now available on-line for review by the public at the following website address: http://www.dol.gov/ilab/programs/iclp/bkgrdsga0204.htm.

Due to this delay, the due date for submission of applications is extended. All applications must now be submitted to the U.S. Department of Labor, Procurement Services Center, Room N-5416, 200 Constitution Avenue, NW., Washington, DC 20210, not later than 4:45 pm EDT, July 17, 2002.

FOR FURTHER INFORMATION CONTACT: Lisa Harvey, Department of Labor, Telephone (202) 693-4570, e-mail: harvey-lisa@dol.gov.

Signed at Washington, DC this 2nd day of July, 2002.
Lawrence J. Kuss,
Director, Procurement Services Center.

[FR Doc. 02-16974 Filed 7-5-02; 8:45 am]

BILLING CODE 4510-28-M